DEPARTMENT OF THE INTERIOR

Fish and Wildlife Service

Notice of Intent To Prepare a Comprehensive Conservation Plan for the Proposed Grand Kankakee Marsh National Wildlife Refuge in Northwestern Indiana and Northeastern Illinois

AGENCY: Fish and Wildlife Service, Interior.

ACTION: Notice of Intent to prepare a comprehensive conservation plan for the proposed Grand Kankakee Marsh National Wildlife Refuge in northwestern Indiana and northeastern Illinois.

SUMMARY: This notice advises the public that the Fish and Wildlife Service (Service) intends to prepare a comprehensive conservation plan and an associated environmental document for the proposed Grand Kankakee Marsh National Wildlife Refuge. The Service is furnishing this notice in compliance with Service comprehensive conservation plan policy and the National Environmental Policy Act and implementing regulations to achieve the following:

(1) Advise other agencies and the public of our intentions, and

(2) Obtain suggestions and information on the scope of issues, opportunities, and concerns for inclusion in the environmental assessment.

DATES: Beginning in November 2000, the Service will solicit information from the public via open houses, workshops, focus groups, and written comments. Special mailings, newspaper articles and radio announcements will inform people of the times and places of public scoping meetings. The dates, times, and places of future scoping meetings will also be posted on the Service's web site at: http://www.fws.gov/r3pao/planning/.

FOR FURTHER INFORMATION CONTACT: Address comments and requests for more information to: Project Leader, Grand Kankakee Marsh National Wildlife Refuge, P.O. Box 189, Plymouth, Indiana 46563; telephone: 219-935-3411.

SUPPLEMENTARY INFORMATION: It is Service policy to have all lands within the National Wildlife Refuge System managed in accordance with an approved comprehensive conservation plan. The plan guides management decisions and identifies refuge goals, objectives, and strategies for achieving refuge purposes. Public input into this planning process is encouraged. The plan will provide other agencies and the public with a clear understanding of the desired future conditions of the refuge and how the Service will implement management strategies.

The purpose(s) of the Grand Kankakee Marsh National Wildlife Refuge (Refuge) is “for the development, advancement, management, conservation, and protection of fish and wildlife resources” (Fish and Wildlife Act of 1956) and for “the conservation of the wetlands of the Nation in order to maintain the public benefits they provide and to help fulfill international obligations contained in various migratory bird treaties and conventions * * *” (Emergency Wetlands Resources Act of 1986).

The mission for the Refuge is to protect, restore, and manage ecological processes within the Kankakee River Basin that benefit threatened and endangered species, migratory birds, native fish, and diverse flora and fauna populations, while providing, to the extent possible, high quality wildlife-dependent environmental interpretation, education, and recreation experiences that build an understanding and appreciation for these resources, and the role humankind plays in their stewardship.

Dated: November 30, 2000.
Marvin E. Moriarty,
Acting Regional Director.

[FR Doc. 00-31284 Filed 12-7-00; 8:45 am]

BILLING CODE 4310-55-M